FEDERAL MARITIME COMMISSION

Ocean Transportation Intermediary Licenses; Correction

In the OTI Applicant Notice published in the Federal Register on January 18, 2007 (72 FR 2282) reference to the name of the Macro Transsport Services, LLC is corrected to read: “Marcotransport Services, LLC”

Dated: February 9, 2007.
Bryant L. VanBrakle,
Secretary.

[FR Doc. E7-2534 Filed 2-13-07; 8:45 am]

BILLING CODE 6730-01-P